DEPARTMENT OF AGRICULTURE

Natural Resources Conservation Service

Notice of Proposed Change to Section 4 of the Pennsylvania State Technical Guide

AGENCY: Natural Resources Conservation Service (NRCS), Department of Agriculture.

ACTION: Notice of availability of proposed changes in the Pennsylvania NRCS State Technical Guide for review and comment.

SUMMARY: It has been determined by the NRCS State Conservationist for Pennsylvania that changes must be made in the NRCS State Technical Guide specifically in practice standard 338 Prescribed Burning to account for improved technology. The prescribed burning practice can be used in systems that have a need to control undesirable vegetation, improve forage quality and quantity, or reduce wildfire hazards through the use of controlled burning.

These draft standards include the following: Prescribed Burning PA338.

DATES: Comments will be received for a 30-day period commencing with this date of publication.

FOR FURTHER INFORMATION CONTACT: Robin E. Heard, State Conservationist, USDA—Natural Resources Conservation Service, One Credit Union Place, Suite 340, Harrisburg, Pennsylvania 17110-2993, telephone (717) 237-2200; fax (717) 237-2238.

Copies of these draft practice standards are made available electronically on the Pennsylvania Natural Resources Conservation Service (NRCS) Web site at http://www.pa.nrcs.usda.gov. Click on the “New eFOTG” button, select Pennsylvania on the map, and access Section IV to review the draft practice standards.

SUPPLEMENTARY INFORMATION: Section 343 of the Federal Agricultural Improvement and Reform Act of 1996 states that revisions made after enactment of the law to NRCS State technical guides used to carry out highly erodible land and wetland provisions of the law shall be made available for public review and comment. For the next 30 days, the NRCS in Pennsylvania will receive comments relative to the proposed changes. Following that period a determination will be made by the NRCS in Pennsylvania regarding disposition of those comments and a final determination of change will be made.

Dated: February 28, 2003.
Robin E. Heard,
State Conservationist.

[FR Doc. 03-6669 Filed 3-19-03; 8:45 am]

BILLING CODE 3410-16-P